NATIONAL SCIENCE FOUNDATION

Proposal Review Panel for Physics; Notice of Meeting

In accordance with the Federal Advisory Committee Act (Pub. L. 92-463, as amended), the National Science Foundation announces the following meeting.

Name: Columbia University FY11 Site Visit (1208).

Date and Time: Thursday, December 2, 2010, 8:15 a.m.-6:45 p.m. Friday, December 3, 2010, 8:30 a.m.-2:30 p.m.

Place: Columbia University, New York, NY.

Type of Meeting: Partially Closed.

Contact Person: Dr. Marvin Goldberg, Program Director for Elementary Particle Physics, National Science Foundation, 4201 Wilson Blvd., Arlington, VA 22230. Telephone: (703) 292-7392.

Purpose of Meeting: To provide an evaluation concerning the proposal submitted to the National Science Foundation.

Agenda

Thursday-Dec. 2

8:15 a.m.-9 a.m. Executive session (closed)

9 a.m.-9:45 a.m. Lab overview (Shaevitz)

9:45 a.m.-10:30 a.m. Veritas, ACT (Humensky)

10:30 a.m.-10:45 a.m. Break

10:45 a.m.-11:30 a.m. MiniBoone/SciBoone (Shaevitz)

11:30 a.m.-12:15 p.m. Double Chooz (Camilleri)

12:15 p.m.-1:15 p.m. Lunch with grad students

1:15 p.m.-2:30 p.m. Tour

2:30 p.m.-3:15 p.m. Microboone (Willis)

3:15 p.m.-4 p.m. ATLAS/D0 (Parsons)

4 p.m.-4:15 p.m. Break

4:15 p.m.-5 p.m. ATLAS/D0 (Brooijmans)

5 p.m.-5:45 p.m. Budget Discussion

5:45 p.m.-6:45 p.m. Executive session (closed)

Friday-Dec. 3

8:30 a.m.-9:15 a.m. Executive session (closed)

9:15 a.m.-10 a.m. ATLAS (Hughes)

10 a.m.-10:15 a.m. Break

10:15 a.m.-11 a.m. ATLAS (Tuts)

11 a.m.-11:30 a.m. Outreach (Parsons)

11:30 a.m.-12:15 p.m. Panel-PI discussions

12:15 p.m.-1:15 p.m. Lunch with postdocs

1:15 p.m.-2:30 p.m. Executive session (closed)

Reason for Closing: The proposal contains proprietary or confidential material including technical information; financial data, such as salaries; and personal information concerning individuals associated with the proposals. These matters are exempt under 5 U.S.C. 552b(c) and (6) of the Government in the Sunshine Act.

Dated: November 16, 2010.
Susanne Bolton,
Committee Management Officer.

[FR Doc. 2010-29214 Filed 11-18-10; 8:45 am]

BILLING CODE 7555-01-P